DEPARTMENT OF HOMELAND SECURITY

Coast Guard

33 CFR Part 66

[USCG-2000-7466]

RIN 1625-AA55

Allowing Alternatives to Incandescent Lights, and Establishing Standards for New Lights, in Private Aids to Navigation

AGENCY: Coast Guard, DHS.

ACTION: Final rule; correction.

SUMMARY: The Coast Guard published in the Federal Register of December 8, 2003 a final rule concerning private aids to navigation and the use of light-emitting diodes (LEDs). The final rule, as published, contained an incorrect telephone number. This document corrects that error.

DATES: Effective March 17, 2004.

FOR FURTHER INFORMATION CONTACT: For questions on this correction notice, call or e-mail Dan Andrusiak, Office of Aids to Navigation (G-OPN), U.S. Coast Guard, at telephone 202-267-0327, or dandrusiak@comdt.uscg.mil.

SUPPLEMENTARY INFORMATION:

Need for Correction

The final rule, as published, contained a telephone number in 33 CFR 66.01-5 in which two digits were transposed. The correct telephone number is (800) 368-5647.

Correction of Publication

§ 66.01-5 [Amended]

In rule FR Doc. 03-29650 published on December 8, 2003, (68 FR 68235), make the following correction. On page 68238, in the third column, in the introductory text of § 66.01-5, remove the telephone number “(800) 368-5674”, and, in its place, add “(800) 368-5647”.

Dated: March 9, 2004.
David S. Belz,
Rear Admiral, U.S. Coast Guard, Assistant Commandant for Operations.

[FR Doc. 04-6034 Filed 3-16-04; 8:45 am]

BILLING CODE 4910-15-P